OFFICE OF PERSONNEL MANAGEMENT

5 CFR Parts 890 and 894

RIN 3206-AM97

Federal Employees Health Benefits Program and Federal Employees Dental and Vision Insurance Program: Excepted Service and Pathways Programs Miscellaneous Clarifications and Corrections

AGENCY: U.S. Office of Personnel Management.

ACTION: Final rule.

SUMMARY: The U.S. Office of Personnel Management (OPM) is issuing a final rule to make technical corrections to the Federal Employees Health Benefits Program (FEHBP) and the Federal Employees Dental and Vision Insurance Program (FEDVIP) regulations allowing coverage for participants in the Pathways Programs. The Pathways Programs were created by Executive Order (E.O.) 13562, signed by the President on December 27, 2010, and are designed to enable the Federal Government to compete effectively for students and recent graduates by improving its recruitment efforts through internships and similar programs with Federal agencies.

DATES: Effective August 25, 2016.

FOR FURTHER INFORMATION CONTACT: Ronald Brown, Policy Analyst, (202) 606-0004, or by email to Ronald.Brown@opm.gov.

SUPPLEMENTARY INFORMATION: The Pathways Programs offer clear paths to civil service careers for recent graduates and provide meaningful training, mentoring, and career-development opportunities through internships and similar programs with Federal Government agencies. For more information on the Pathways Programs see the final rule, “Excepted Service, Career and Career-Conditional Employment; and Pathways Programs,” available at 77 FR 28193 (May 11, 2012) (Pathways regulation.) On January 6, 2014, OPM published an interim final regulation updating title 5 Code of Federal Regulations, §§ 890.303 and 894.302, to conform with the Pathways regulation. OPM received one comment not related to the substance of this technical correction. Accordingly, this final regulation adopts the interim final regulation with no changes.

Analysis of and Responses to Public Comments

We received one comment on the interim final rule relating to agency guidance materials.

Comment: One commenter asked if OPM will issue new guidance to Federal agencies concerning the changed scheduling authority for Pathways Programs participants.

Response: OPM is not planning to issue guidance to Federal agencies on this regulation as no substantive policy changes were made. The interim final rule made technical changes to FEHBP and FEDVIP regulations to conform with the final Pathways regulation published on May 11, 2012 (77 FR 28194). The only change to the FEHBP regulation was the title of the schedule appointment authority for Pathways Programs interns. See 5 CFR 890.303(e)(2). In the FEDVIP regulation, the intern programs were renamed. See 5 CFR 894.302(f).

Agencies should continue to refer to the supplementary information published in the aforementioned final rule and the guidance that is on the OPM Web site at: http://www.opm.gov/policy-data-oversight/hiring-authorities/students-recent-graduates/.

Regulatory Flexibility Act

I certify that this regulation will not have a significant economic impact on a substantial number of small entities because the regulation only affects health and dental and vision insurance benefits of Federal employees and retirees.

Executive Order 12866, Regulatory Review

This rule has been reviewed by the Office of Management and Budget in accordance with Executive Order 12866.

Federalism

We have examined this rule in accordance with Executive Order 13132, Federalism, and have determined that this rule will not have any negative impact on the rights, roles and responsibilities of State, local, or tribal governments.

List of Subjects in 5 CFR Parts 890 and 894

Administrative practice and procedure, Government employees, Health insurance, Retirement.

U.S. Office of Personnel Management.
Beth F. Cobert,
Acting Director.

Accordingly, OPM is amending 5 CFR chapter I as follows:

PART 890—FEDERAL EMPLOYEES HEALTH BENEFITS PROGRAM

1. The authority citation for part 890 continues to read as follows:

Authority: 5 U.S.C. 8913; Sec. 890.301 also issued under sec. 311 of Pub. L. 111-3, 123 Stat. 64; Sec. 890.111 also issued under section 1622(b) of Pub. L. 104-106, 110 Stat. 521; Sec. 890.112 also issued under section 1 of Pub. L. 110-279, 122 Stat. 2604; Sec. 890.803 also issued under 50 U.S.C. 403p, 22 U.S.C. 4069c and 4069c-1; subpart L also issued under sec. 599C of Pub. L. 101-513, 104 Stat. 2064, as amended; Sec. 890.102 also issued under sections 11202(f), 11232(e), 11246(b) and (c) of Pub. L. 105-33, 111 Stat. 251; and section 721 of Pub. L. 105-261, 112 Stat. 2061; Pub. L. 111-148, as amended by Pub. L. 111-152.

Subpart C—Enrollment

2. In § 890.303, revise paragraph (e)(2) to read as follows:

§ 890.303 Continuation of enrollment.

* * * * *

(e) * * *

(2) However, in the case of an employee who is employed under an OPM approved career-related work-study program under Schedule D of at least one year's duration and who is expected to be in a pay status during not less than one-third of the total period of time from the date of the first appointment to the completion of the work-study program, his/her enrollment continues while he/she is in nonpay status so long as he/she is participating in the work-study program.

* * * * *

PART 894—FEDERAL EMPLOYEES DENTAL AND VISION INSURANCE PROGRAM

3. The authority citation for part 894 continues to read as follows:

Authority: 5 U.S.C. 8962; 5 U.S.C. 8992; Subpart C also issued under section 1 of Pub. L. 110-279, 122 Stat. 2604.

Subpart C—Eligibility

4. In § 894.302, paragraph (f) is revised to read as follows:

§ 894.302 What is an excluded position?

* * * * *

(f) Expected to work fewer than six months in each year. Exception: you are eligible if you receive an appointment of at least one year's duration as an Intern under § 213.3402(a) of this chapter. To qualify, you must be expected to be in a pay status for at least one-third of the total period of time from the date of the first appointment to the completion of the work-study program.

* * * * *

[FR Doc. 2016-20186 Filed 8-24-16; 8:45 am]

BILLING CODE 6325-63-P